OFFICE OF PERSONNEL MANAGEMENT

5 CFR Part 532

Prevailing Rate Systems

CFR Correction

In Title 5 of the Code of Federal Regulations, Parts 1 to 699, revised as of January 1, 2014, on page 445, in appendix C to subpart B of part 532, under Colorado, under the subheading “Southern Colorado”, under “Area of Application. Survey area plus:”, remove the entry for Montrose.

[FR Doc. 2014-29465 Filed 12-15-14; 8:45 am]

BILLING CODE 1505-01-D